DEPARTMENT OF HEALTH AND HUMAN SERVICES

[Document Identifier: OS-0945-0005]

Agency Information Collection Request; 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before April 12, 2024.

ADDRESSES: Submit your comments to Sherrette.Funn@hhs.gov, PRA@hhs.gov, or by calling (202) 264-0041.

FOR FURTHER INFORMATION CONTACT: When submitting comments or requesting information, please include the document identifier 0945-0005 and project title for reference, to Sherrette A. Funn, email: Sherrette.Funn@hhs.gov, PRA@hhs.gov, or call (202) 264-0041 the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: HIPAA Audit Review Survey.

Type of Collection: Reinstatement, with Change, of a Previously Approved Collection OMB No. 0945-0005: Office for Civil Rights (OCR)—Health Information Privacy Division.

Abstract: This information collection consists of 39 online survey questions that will be sent to 207 covered entities and business associates that participated in the 2016-2017 OCR HIPAA Audits. The survey will gather information relating to the effect of the audits on the audited entities and the entities' opinions about the audit process.

OCR is conducting a review of the 2016-2017 HIPAA Audits to determine its efficacy in assessing the HIPAA compliance efforts of covered entities. As part of that review, the online survey will be used to:

Measure the effect of the 2016-2017 HIPAA Audits on covered entities' and business associates' subsequent actions to comply with the HIPAA Rules.

Provide entities with an opportunity to give feedback on the Audit and its features, such as the helpfulness of HHS' guidance materials and communications, the utility of the online submission portal, whether the Audit helped improve entity compliance, and the entities' responses to the Audit-report findings and recommendations.

Provide OCR with information on the burden imposed on entities to collect audit-related documents and to respond to audit-related requests; and

Seek feedback on the effect of the HIPAA Audit program on the entities' day-to-day business operations.

The information, opinions, and comments collected using the online survey will be used to improve future OCR HIPAA Audits.

Annualized Burden Hour Table
Form name | Respondents | Number of respondents | Number of responses per respondent | Average burden per response | Total burden hours
OCR HIPAA Audit Participant Survey | Covered Entity Privacy and Security Officer(s) or Administrators | 166 | 1 | 45/60 | 124.5
OCR HIPAA Audit Participant Survey | Business Associate Privacy and Security Officer(s) or Administrators | 41 | 1 | 45/60 | 30.75
Total |  | 207 |  |  | 155.25

Sherrette A. Funn,
Paperwork Reduction Act Reports Clearance Officer, Office of the Secretary.

[FR Doc. 2024-02737 Filed 2-9-24; 8:45 am]

BILLING CODE 4153-01-P